DEPARTMENT OF COMMERCE

International Trade Administration

[A-570-956]

Seamless Carbon and Alloy Steel Standard, Line, and Pressure Pipe From the People's Republic of China: Rescission of Antidumping Duty Administrative Review

AGENCY: Import Administration, International Trade Administration, Department of Commerce.

SUMMARY: In response to a request from an interested party, the United States Steel Corporation, the Department of Commerce (the Department) initiated an administrative review of the antidumping duty order on seamless carbon and alloy steel standard, line, and pressure pipe from the People's Republic of China. The period of review is November 10, 2010, through October 31, 2011. Based on the timely withdrawal of the request for review submitted by United States Steel Corporation, we are now rescinding this administrative review.

DATES: Effective Date: July 26, 2012.

FOR FURTHER INFORMATION CONTACT: Brandon Farlander or Charles Riggle, AD/CVD Operations, Office 4, Import Administration, International Trade Administration, U.S. Department of Commerce, 14th Street and Constitution Avenue NW., Washington, DC 20230; telephone: (202) 482-0182 or (202) 482-0650, respectively.

SUPPLEMENTARY INFORMATION:

Background

On December 30, 2011, based on a timely request for review by the United States Steel Corporation, the Department published in the Federal Register a notice of initiation of an administrative review of the antidumping duty order on seamless carbon and alloy steel standard, line, and pressure pipe from the People's Republic of China covering the period November 10, 2010, through October 31, 2011. See Initiation of Antidumping and Countervailing Duty Administrative Reviews and Request for Revocation in Part, 76 FR 82268 (December 30, 2011). The review covers 32 companies: Anhui Tianda Oil Pipe; Baoshan Iron & Steel Co., Ltd.; Beijing Sai Lin Ke Hardware Co., Ltd.; Hengyang Steel Tube Group Int'l Trading Inc.; Hengyang Valin MPM Tube Co., Ltd.; Hengyang Valin Steel Tube Co., Ltd.; Hunan Valin Iron & Steel Group Co., Ltd.; Hunan Valin Steel Co., Ltd.; Hunan Valin Xiangtan Iron & Steel Co., Ltd.; Jiangsu Changbao Steel Tube Co., Ltd.; Jiangsu Chengde Steel Tube Share Company; Jiangsu Xigang Group Co., Ltd.; Jiangyin City Changjiang Steel Pipe Co., Ltd.; LDR Industries, Inc.; Pangang Group Chengdu Iron & Steel Co.; Shandong HuaBao Steel Pipe; Shandong Luxing Steel Pipe; Shanghai Tianyang Steel Tube; Tianguan Yuantong Pipe Product Co., Ltd.; Tianjin Pipe (Group) Corporation; Tianjin Pipe International Economic & Trading Corp.; Tianjin Pipe Iron Manufacturing Co., Ltd.; TPCO Charging Development Co., Ltd.; Wuxi Resources Steel Making Co., Ltd.; Wuxi Seamless Special Pipe Co., Ltd.; Wuxi Sifang Steel Tube Co., Ltd.; Wuxi Zhenda Special Steel Tube Manufacturing; Xigang Seamless Steel Tube; Xuzhou Global Pipe and Fitting Mfg.; Yangzhou Chengde Steel Tube Co., Ltd.; Yangzhou Lontrin Steel Tube Co., Ltd.; and Yantai Lubao Steel Tube. No other party requested a review.

On March 29, 2012, and amended on April 3, 2012, the United States Steel Corporation withdrew its request for an administrative review of the 32 companies.

Rescission of Review

Pursuant to 19 CFR 351.213(d)(1), the Department will rescind an administrative review if the party that requested the review withdraws its request within 90 days of the publication of the notice of initiation of the requested review, or withdraws at a later date if the Department exercises its discretion to extend the time limit for withdrawing the request. In this case, the United States Steel Corporation withdrew its request within the 90-day deadline and no other party requested an administrative review of the antidumping duty order. Therefore, we are rescinding the administrative review of seamless carbon and alloy steel standard, line, and pressure pipe from the People's Republic of China for the period November 1, 2010, through October 31, 2011.

Assessment

The Department will instruct U.S. Customs and Border Protection (CBP) to assess antidumping duties on all appropriate entries. Antidumping duties shall be assessed at rates equal to the cash deposit or bonding rate of estimated antidumping duties required at the time of entry, or withdrawal from warehouse, for consumption, in accordance with 19 CFR 351.212(c)(1)(i). The Department intends to issue appropriate assessment instructions directly to CBP 15 days after publication of this notice.

Notifications

This notice serves as a final reminder to importers for whom this review is being rescinded of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: July 19, 2012.
Christian Marsh,
Deputy Assistant Secretary for Antidumping and Countervailing Duty Operations.

[FR Doc. 2012-18280 Filed 7-25-12; 8:45 am]

BILLING CODE 3510-DS-P